FEDERAL COMMUNICATIONS COMMISSION

47 CFR Part 61

[CC Docket No. 96-262; FCC 01-146]

Access Charge Reform; Reform of Access Charges Imposed by Competitive Local Exchange Carriers

Correction

In rule document 01-12758, beginning on page 27892, in the issue of Monday, May 21, 2001 make the following correction:

§ 61.62 [Corrected]

On page 27900, in the first column, §61.62, paragraph (c), in the 13th line, “June 20, 2005” should read “June 21, 2004”.

[FR Doc. C1-12758 Filed 5-23-01; 8:45 am]

BILLING CODE 1505-01-D

GENERAL SERVICES ADMINISTRATION

[OMB Control No. 3090-0040]

Submission for OMB Review; Comment Request Entitled Application for Shipping Instructions and Notice of Availability

Correction

In notice document 01-11530 appearing on page 23257 in the issue of Tuesday, May 8, 2001, make the following correction:

In the second column, under ADDRESSES, two lines from the bottom, “100 F Street” should read “1800 F Street”.

[FR Doc. C1-11530 Filed 5-23-01; 8:45 am]

BILLING CODE 1505-01-D

DEPARTMENT OF TRANSPORTATION

Coast Guard

33 CFR Part 160

[USCG-2001-8659]

RIN 2115-AG06

Notification of Arrival; Addition of Charterer to Required Information

Correction

In proposed rule document 01-10838, beginning on page 21710 in the issue of Tuesday, May 1, 2001, make the following correction:

§160.213 [Corrected]

On page 21715, in the second column, §160.213, in amendatory instruction 6.b., in the second line, “and” should read “and add”.

[FR Doc. C1-10838 Filed 5-23-01; 8:45 am]

BILLING CODE 1505-01-D